DEPARTMENT OF ENERGY

Federal Energy Regulatory Commission

[Project No. 2232-455]

Duke Power Company; Notice of Availability of Environmental Assessment

January 4, 2005.

In accordance with the National Environmental Policy Act of 1969, as amended, and the Federal Energy Regulatory Commission's (Commission) regulations (18 CFR part 380), Commission staff have prepared an environmental assessment (EA) that analyzes the environmental impacts of allowing Duke Power Company, licensee for the Catawba-Wateree Hydroelectric Project, to grant a lease of two parcels of land, totaling 1.918 acres, to Lake James Properties, LLC, for the purpose of constructing a residential/commercial marina. The marina will be located on Lake James, one of the project's 11 reservoirs, in McDowell County, North Carolina. The facility will accommodate a total of 110 boat slips, and will provide access to the reservoir for the residents of The Arbor on Lake James subdivision.

A copy of the EA is attached to a Commission order titled “Order Modifying and Approving Non-Project Use of Project Lands and Waters,” which was issued on December 15, 2004, and is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E5-44 Filed 1-10-05; 8:45 am]

BILLING CODE 6717-01-P